DEPARTMENT OF THE INTERIOR

National Park Service

[NPS-WASO-NRNHL-DTS#-30831; PPWOCRADI0, PCU00RP14.R50000]

National Register of Historic Places; Notification of Pending Nominations and Related Actions

AGENCY: National Park Service, Interior.

ACTION: Notice.

SUMMARY: The National Park Service is soliciting electronic comments on the significance of properties nominated before August 29, 2020, for listing or related actions in the National Register of Historic Places.

DATES: Comments should be submitted electronically by September 29, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before August 29, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ILLINOIS

Mercer County

Verdurette, 665 65th Ave. New Boston, SG100005658

IOWA

Muscatine County

Leith, Doctor Alexander R. (A.R.) and Louisa J., House, 117 West 6th St., Wilton, SG100005657

MARYLAND

Charles County

Moyaone Reserve Historic District, Roughly bounded by Bryan Point Rd., Piscataway Park, Overlook Dr./Old Landing Rd., and Farmington Rd. West, Bryans Road vicinity, SG100005659

Prince George's County

Moyaone Reserve Historic District, Roughly bounded by Bryan Point Rd., Piscataway Park, Overlook Dr./Old Landing Rd., and Farmington Rd. West, >Accokeek vicinity, SG100005659

MISSOURI

Jackson County

East Ninth Street-Grand Boulevard Historic District, Roughly bounded by Main, McGee, East 8th and East 10th Sts., Kansas City, SG100005660

Community Church, 4601 Main St., Kansas City, SG100005662

Wheatley-Provident Hospital, 1826 Forest Ave., Kansas City, SG100005665

Miller County

Grand Auglaize Bridge, Swinging Bridges Rd. across Grand Auglaize Cr., Brumley vicinity, SG100005663

St. Louis County

Bank of St. Ann, 10449 St. Charles Rock Rd., St. Ann, SG100005661

St. Louis Independent City, Metropolitan Police Garage, 3919 Laclede Ave., St. Louis, SG100005664

PENNSYLVANIA

Erie County

Orton, Almerion C. & Barbara Moseman, Farm (Agricultural Resources of Pennsylvania c1700-1960 MPS), 7853 Knoyle Rd., Wattsburg, MP100005655

Monroe County

Parkside Chapel, 5335 Paradise Valley Rd., Henryville, SG100005656

Philadelphia County

Edward Corner Marine Merchandise Warehouse, 1100-1102 North Delaware Ave., Philadelphia, SG100005654

VERMONT

Windsor County

Park Street School (Educational Resources of Vermont MPS), 60 Park St., Springfield, MP100005653

Authority: Section 60.13 of 36 CFR part 60.

Dated: September 1, 2020.
Sherry A. Frear,
Chief, National Register of Historic Places/National Historic Landmarks Program.

[FR Doc. 2020-20188 Filed 9-11-20; 8:45 am]

BILLING CODE 4312-52-P